EQUAL EMPLOYMENT OPPORTUNITY COMMISSION

[3046-ZA01]

Notice of Availability; Proposed Updated Compliance Manual on Religious Discrimination

AGENCY: Equal Employment Opportunity Commission.

ACTION: Notice of availability.

SUMMARY: The Equal Employment Opportunity Commission (EEOC or Commission) is announcing the availability of a draft updated guidance, entitled “Proposed Updated Compliance Manual on Religious Discrimination.” The proposed updated guidance explains a variety of issues applicable to religious discrimination claims, discusses typical scenarios in which religious discrimination and requests for religious accommodation may arise, and provides guidance to employers on how to balance the needs of individuals in a diverse religious climate. The proposed guidance, when finalized, will supersede the Commission's Compliance Manual on Religious Discrimination issued on July 22, 2008.

DATES: Comments are due on or before December 17, 2020.

ADDRESSES: You may submit comments, identified by RIN Number 3046-ZA01, by any of the following methods:

• Federal eRulemaking Portal: http://www.regulations.gov. Follow the instructions for submitting comments.

• Fax: (202) 663-4114. (There is no toll free fax number.) Only comments of six or fewer pages will be accepted via fax transmittal, in order to assure access to the equipment. Receipt of FAX transmittals will not be acknowledged, except that the sender may request confirmation of receipt by calling the Executive Secretariat staff at (202) 663-4070 (voice) or (202) 663-4074 (TTY). (These are not toll free numbers.)

• Mail: Bernadette B. Wilson, Executive Officer, Executive Secretariat, U.S. Equal Employment Opportunity Commission, 131 M Street NE, Washington, DC 20507.

Instructions: The Commission invites comments from all interested parties. All comment submissions must include the agency name and docket number or the Regulatory Information Number (RIN) for this rulemaking. Comments need be submitted in only one of the above-listed formats. All comments received will be posted without change to http://www.regulations.gov, including any personal information you provide.

Docket: For access to comments received, go to http://www.regulations.gov. Although copies of comments received are usually also available for review at the Commission's library, given the EEOC's current 100% telework status due to the COVID-19 pandemic, the Commission's library is closed until further notice. Once the Commission's library is re-opened, copies of comments received in response to the proposed rule will be made available for viewing by appointment only at 131 M Street NE, Suite 4NW08R, Washington, DC 20507, between the hours of 9:30 a.m. and 5:00 p.m.

FOR FURTHER INFORMATION CONTACT: Andrew Maunz, Legal Counsel, Office of Legal Counsel, (202) 663-4609 or andrew.maunz@eeoc.gov.

SUPPLEMENTARY INFORMATION: The EEOC is publishing the proposed Updated Compliance Manual on Religious Discrimination for comment pursuant to E.O. 13891 and the implementing regulations at 29 CFR part 1695.

The proposed updated guidance is available for comment on https://www.regulations.gov under EEOC-2020-0007. It can also be accessed through www.eeoc.gov/guidance.

Dated: November 17, 2020.
Janet Dhillon,
Chair.

[FR Doc. 2020-25736 Filed 11-20-20; 8:45 am]

BILLING CODE 6570-01-P